U.S. COMMITTEE ON THE MARINE TRANSPORTATION SYSTEM

[Docket No. DOT-OST-2023-0117]

Proposed National Guidance for Industry on Responding to Munitions and Explosives of Concern in U.S. Federal Waters

AGENCY: U.S. Committee on the Marine Transportation System.

ACTION: Notice of availability; request for comments.

SUMMARY: This notice announces the availability of a draft guidance document, the National Guidance for Industry on Responding to Munitions and Explosives of Concern in U.S. Federal Waters. The U.S. Committee on the Marine Transportation System invites public comment on the draft guidance.

DATES: Submit comments on or before September 25, 2023.

ADDRESSES: The draft guidance can be viewed through the U.S. Committee on the Marine Transportation System's website at https://www.cmts.gov/topic-offshore-energy/. You may submit comments, identified by docket number DOT-OST-2023-0117, using the Federal eRulemaking Portal at https://www.regulations.gov. Follow the instructions for submitting comments. Comments received will be posted without change to https://www.regulations.gov, including any personal information you provide. Do not submit any information you consider to be private information, privileged or confidential commercial or financial information, or if the disclosure of which is restricted by statute.

FOR FURTHER INFORMATION CONTACT: Michael Heard Snow, Senior Policy Advisor, U.S. Committee on the Marine Transportation System, 1200 New Jersey Ave. SE, Washington, DC 20590-0001; telephone (202) 805-0570; email m.heardsnow@cmts.gov.

SUPPLEMENTARY INFORMATION:

Background

Until 1972, one of the primary mechanisms for the disposal of munitions and explosives of concern (MEC), including unexploded ordnance, discarded military munitions, and munitions constituents—all of which may pose explosive hazards—was to dispose of them at sea. This disposal, in addition to other mechanisms, has led to a significant buildup of MEC in Federal waters on the outer continental shelf (OCS) with a concentration along the eastern seaboard of the United States. As the demand for renewable energy continues to grow, offshore energy, with a focus on offshore wind, is rapidly increasing. The Biden-Harris Administration has set a goal of significantly increasing the nation's offshore wind energy capacity to 30 gigawatts by 2030. However, many of the sites leased and targeted for development of these projects overlap with areas where MEC have settled over the decades. To answer questions on how to address the discovery of MEC through a whole-of-government process, the Bureau of Safety and Environmental Enforcement (BSEE) approached the U.S. Committee on the Marine Transportation System (CMTS), a Congressionally mandated, Cabinet-level interagency body, to convene Federal agencies to develop this guidance. This document is intended to help Federal agencies coordinate their statutory and regulatory authorities to approve, regulate, or permit the detonation, removal, or mitigation of MEC on the OCS.

The draft national guidance describes the process recommended to industry when responding to MEC discovered in Federal waters and on the OCS during the development of offshore energy installations. This includes procedures for industry to inform the government of MEC discoveries on the OCS, a process to safely develop a risk assessment, and MEC operational response plan. The draft guidance also outlines the interagency process for the government to respond to such discoveries and work with industry.

Comments Invited

The CMTS invites public comments on the draft guidance concerning the proposed process for addressing the discovery of munitions and explosives of concern on the U.S. outer continental shelf during offshore energy development. The CMTS will consider the public comments submitted during this comment period in issuing any final National Guidance.

Issued in Washington, DC.
Brian J. Tetreault,
Acting Director, U.S. Committee on the Marine Transportation System.

[FR Doc. 2023-18381 Filed 8-24-23; 8:45 am]

BILLING CODE 4910-9X-P